DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending December 31, 2003.

Names are set in the following order: First name, middle name or initial (if applicable), and last name.

Michael Bernhard Snyder

Nina Diana McNeil

Pamela Osborn McVeigh

Patricia Pirkelbauer

Bernice Reussler

Joao Moreira Salles

Marcia Renee Kalb MacLeod

Melanie Laura Bonita Serrano

Robin Jamison Winkler

Lynette Sabrina Thompson

Gerta Walsh

Steven Robert Walsh

Barbara Maria Wigand

Audrey Phyllis Wili

Allison Earl Woessner

Peter Steven Schwaninger

Carol Judd Barberi

Amabel May Bo Wong

William Lewis Acker

Steven Charles Loechel

Philip Young-Joon Ahn

Gabriela Ann Brendel

Daniel David Chipman

William Berry Craig

Kenneth L. Crouch

Michele Clarke Davies

Evelyn Corina Fester

Diane Finiello Zervas Hirst

Said T. Jawad

Pertti Juhani Kiiveri

Jane Valesca Achtman

Christine Petra Klein

Samuel Jarrett Stewart

Hans-Georg Von Goertz

Ursula Fabian

Terry Faiveley

Helen Harriet Mintz

Robin Frances Miller

Thomas Lee Hall

John Kenneth Hillyer

Mary Elanne Smootz

Neal Joshua Thomson

Dorothea Louise Neubronner-Barnes

Hubert Kaishun Hsu

Hildegarde Marie Theresa Plewa

Joan Elaine Pardo

Paul Guillaume Taylor

Donald Charles Burd

Alexandre Gregory Pierre-Traves

Brigitte Regine Hudson

Jeremy Calvert Coghill

Pamela Eisenberg

Mary Elizabeth Grant

Roberto Marsella

James Jean Sacre

Agnes Terese Krahm

Michael D. Fisher (Fischer)

Valerie Ann Corman

Stephen Gregory Coates

Bettie Graves Stone

Raymond Edward McCann

Sonny Yat-Fai Chan

Ivy Cheng-Moey Cheong

David Frederick Weil

George Evans Steinmetz, Jr.

Swiatoslav Gregory Dykan

Deborah Ann Bianco

Zekkariyas

Nicole Hamsley

Friedhelm Eronat

David James Deorio

Orris Michael Hull

Richard Ko

Ariane Duplaix Guerlain

Sylvia Sau Wah Wong Hung

Elizabeth Church Gibbs

Sam Ye Kang

Linda Fischer Frosini

Ivan Beldi

Michael Kendall-Tobias

Stanford M. Rogers

Petra Suzanne Motz

Richard Walter Sylvester

Chantal Kendall-Tobias

Carter Richard Ting

Minnie Shun-Kwai Wong

Lana Ojjeh

Catherine Anne Bell

Alison Chun Cheong Chow

Luciane Guntner

Michael Thomas Heaslip

Andreas Gottfried Boehm

Dennis Jack Erwin

Ellen Wing Hang Ng

Philip Yousif Bahoshy

Charles Albert Drace, Jr.

Elizabeth Rosaria Loverde

Nicholas John Wright

Melissa D. Wright

Jana Chiara Katz

Michael Simon Katz

Benjamin Bruce Kuehn

April Lynne O'Flaherty

Jennifer Elizabeth Gales

Claire Marquis

Amanda Elaine Gales

Wendy Rosemary Holm

Adolph Scherer

Thomas Appleby Stearns

Patricia Siegbert Wolfston

Oscar Santiago

Hui Ying Kao Chou

Radha Velamur Raghupathy

Kwong Wai Leung

Hyun Sook Lee

Pao-Yin Chen

Thomas Christian Wetzler

Mark Steven Weldon (a.k.a. Flash Qfiasco)

Wing Cheong Leung

Karen Smith White

Thomas Patrick Warlick

Jon Park

Anne Mariko Sasayama (nee Hanakata)

Barbara Frische

Wilson Po Hang Wong

Thibault Marie Mendel Relecom

Michaela Bettina Bianco

George Albert Brown

Melody Fong

James Donald Sinclair Callbeck

Raphael Ben-Yosefaka (Ralph Charles Finkel)

John Joseph Johnson

Sang Hee Kim

Dated: October 4, 2004.
Tracy Harmon,
Examination Operation, Philadelphia Compliance Services.

[FR Doc. 04-23600 Filed 10-20-04; 8:45 am]

BILLING CODE 4830-01-P